DEPARTMENT OF ENERGY

Office of Fossil Energy

[FE Docket No. 04-46-NG; 04-49-NG; 04-48-NG; 04-50-NG; 04-51-NG; 90-25-NG; 04-47-NG; 04-53-NG; 04-54-NG; 04-55-NG]

Anadarko Energy Services Company; Indeck-Oswego Limited Partnership; Indeck-Yerkes Limited Partnership; New York State Electric & Gas Corporation; WGR Canada, Inc.; NUI Utilities, Inc. (Formerly Elizabethtown Gas Company); UBS, AG, London Branch; National Fuel Resources, Inc.; West Texas Gas, Inc.; Hunt Oil Company of Canada, Inc.; Orders Granting, and Amending Authority to Import and Export Natural Gas, Including Liquefied Natural Gas

AGENCY: Office of Fossil Energy, DOE.

ACTION: Notice of orders.

SUMMARY: The Office of Fossil Energy (FE) of the Department of Energy gives notice that during May 2004, it issued Orders granting and amending authority to import and export natural gas, including liquefied natural gas. These Orders are summarized in the attached appendix and may be found on the FE Web site at http://www.fe.doe.gov (select gas regulation). They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on June 10, 2004.
Sally Kornfeld,
Manager, Natural Gas Regulation, Office of Natural Gas & Petroleum Import & Export Activities, Office of Fossil Energy.

Appendix

Orders Granting and Amending Import/Export Authorizations
[DOE/FE Authority]
Order No. | Date issued | Importer/exporter FE docket No. | Import volume | Export volume | Comments
1978 | 5-3-04 | Anadarko Energy Services Company 04-46-NG | 100 Bcf |  | Import and export a combined total of natural gas from and to Canada, and import LNG from other international sources, beginning on May 1, 2004, and extending through April 30, 2006.
1979 | 5-7-04 | Indeck-Oswego Limited Partnership 04-49-NG | 18 Bcf |  | Import natural gas from Canada, beginning on May 16, 2004, and extending through May 15, 2006
1980 | 5-7-04 | Indeck-Yerkes Limited Partnership 04-48-NG | 18 Bcf |  | Import natural gas from Canada, beginning on May 16, 2004, and extending through May 15, 2006
1981 | 5-7-04 | New York State Electric & Gas Corporation 04-50-NG | 50 Bcf |  | Import natural gas from Canada, beginning on July 1, 2004, and extending through June 30, 2006.
1982 | 5-7-04 | WGR Canada, Inc. 04-51-NG | 73 Bcf | 73 Bcf | Import and export natural gas from and to Canada, beginning on July 14, 2004, and extending through July 13, 2006.
428-A | 5-18-04 | NUI Utilities, Inc. (Formerly Elizabethtown Gas Company) 90-25-NG |  |  | Name Change
1983 | 5-14-04 | UBS, AG, London Branch 04-47-NG | 700 Bcf,
|  |  | 700 Bcf,
|  |  | 400 Bcf |  | Import and export a combined total of natural gas from and to Canada, and import and export a combined total of natural gas from and to Mexico, and import LNG from other sources, beginning on April 29, 2004 and extending through April 28, 2006.
1984 | 5-17-04 | National Fuel Resources, Inc. 04-53-NG | 50 Bcf |  | Import and export a combined total of natural gas from and to Canada, beginning on June 1, 2004, and extending through May 31, 2006.
1985 | 5-24-04 | West Texas Gas, Inc. 04-54-NG |  | 50 Bcf | Export natural gas to Mexico, beginning on June 1, 2004, and extending through May 31, 2006.
1986 | 5-24-04 | Hunt Oil Company of Canada, 04-55-NG | 6.0 Bcf |  | Import natural gas from Canada, Inc. beginning on December 1, 20002, and extending through November 30, 2004.

[FR Doc. 04-13938 Filed 6-18-04; 8:45 am]

BILLING CODE 6450-01-P